NUCLEAR REGULATORY COMMISSION

[Docket No. 40-9091-MLA; ASLBP No. 12-915-01-MLA-BD01]

Atomic Safety and Licensing Board Panel; In the Matter of Strata Energy, Inc. (Ross In Situ Recovery Uranium Project); Before the Licensing Board: G. Paul Bollwerk, III, Chairman, Dr. Richard F. Cole, Dr. Craig M. White; Notice of Hearing (Notice of Evidentiary Hearing and Opportunity To Provide Oral and Written Limited Appearance Statements)

July 25, 2014.

The Atomic Safety and Licensing Board hereby gives notice that it will convene an evidentiary hearing to receive testimony and exhibits in this proceeding regarding the January 2011 application of Strata Energy, Inc., (SEI) for authorization to possess and use Atomic Energy Act section 11.z source and AEA section 11.e(2) byproduct materials pursuant to 10 CFR part 40 in the operation of SEI's proposed Ross In Situ Recovery Uranium Project site in Crook County, Wyoming.¹ The evidentiary hearing will concern environmental matters relating to the proposed issuance of the requested license. In addition, the Board gives notice that, in accordance with 10 CFR 2.315(a), it will entertain oral and written limited appearance statements from members of the public in connection with this proceeding.

¹ As outlined by the Commission in its decision in Sequoyah Fuels Corp. (Gore, Oklahoma Site), CLI-03-15, 58 NRC 349 (2003), section 11.e(2) byproduct material is that material, as defined by AEA section 11.e(2), 42 U.S.C. 2014e(2), that is “the tailings or wastes produced by the extraction or concentration of uranium or thorium from any ore processed primarily for its source material content.” This byproduct material category was created in 1978 by the Uranium Mill Tailings and Reclamation Act to afford the NRC regulatory jurisdiction over mill tailings at active and inactive uranium milling sites. See Sequoyah Fuels, CLI-03-15, 58 NRC at 353-54.

A. Matters To Be Considered

As set forth by the Licensing Board in its May 2014 issuance ruling on a motion by the Joint Intervenors ² to admit new and amended contentions following the Nuclear Regulatory Commission (NRC) staff's February 2014 issuance of its final supplement to the agency's generic environmental impact statement (FEIS) on in situ recovery (ISR) projects intended to provide the staff's National Environmental Policy Act (NEPA)-mandated assessment of the SEI license application,³ the three contentions currently admitted in this proceeding are as follows:

² Joint Intervenors are the Natural Resources Defense Council and the Powder River Basin Resource Council.

³ See Licensing Board Memorandum and Order (Ruling on Motion to Migrate/Amend Existing Contentions and Admit New Contentions Regarding Final Supplement to Generic Environmental Impact Statement) (May 23, 2014) (unpublished); see also Office of Federal and State Materials and Environmental Management Programs, NRC, [EIS] for the Ross ISR Project in Crook County, Wyoming; Supplement to the Generic [EIS] for In-Situ Leach Uranium Milling Facilities, NUREG-1910 (supp. 5 Feb. 2014) (ADAMS Accession No. ML14056A096).

Environmental Contention 1: The FSEIS fails to adequately characterize baseline (i.e., original or pre-mining) groundwater quality.

Environmental Contention 2: The FSEIS fails to analyze the environmental impacts that will occur if the applicant cannot restore groundwater to primary or secondary limits.

Environmental Contention 3: The FSEIS fails to include adequate hydrological information to demonstrate SEI's ability to contain groundwater fluid migration.

Subject to the outcome of a pending party dispositive motion regarding environmental contention 1,⁴ these issue statements will be the subject matter of the evidentiary hearing and should be the focus of any limited appearance statements.⁵

⁴ [Joint Intervenors'] Motion for Summary Disposition on Environmental Contention 1 (June 13, 2014).

⁵ Although a fourth issue statement, environmental contention 4/5A, was admitted into this proceeding, in a July 25, 2014 ruling the Board dismissed that contention. See Licensing Board Memorandum and Order (Ruling on Summary Disposition Motion Regarding Environmental Contention 4/5A) (July 25, 2014) at 2 (unpublished).

B. Date, Time, and Location of Evidentiary Hearing

The Board will convene a simplified evidentiary hearing conducted in accord with the procedures set forth in 10 CFR part 2, Subpart L, regarding the environmental matters set specified in section A above on the following date at the specified location and time:

Date: Tuesday, September 30, 2014.

Time: 9:30 a.m. Mountain Time (MT).

Location: Wyoming Meeting Room, Energy Hall, Cam-Plex Multi-Event Facilities, 1635 Reata Dr., Gillette, Wyoming.

The hearing will continue from day-to-day until concluded. SEI, the NRC staff, and Joint Intervenors will be parties to the hearing and will sponsor witnesses and evidentiary material.

Any member of the public who plans to attend the hearing is advised that security measures may be employed at the entrance to the room housing the hearing, including searches of hand-carried items such as briefcases or backpacks, and is reminded to arrive in sufficient time to allow for security screening. Items that could readily be used as weapons will not be permitted in the room where the evidentiary hearing sessions will be held. Also, during the evidentiary hearing sessions, no signs will be permitted in the hearing room.

C. Date, Time, and Location of Oral Limited Appearance Statement Session

A 10 CFR 2.315(a) oral limited appearance session regarding the Ross ISR facility proceeding will be held on the following date at the specified location and time:

Date: Sunday, September 28, 2014 (if there is sufficient interest).

Time: 3:00 p.m. to 6:00 p.m. MT.

Location: Sundance Community Meeting Room, Crook County Courthouse Basement, 309 Cleveland St., Sundance, Wyoming.

D. Participation Guidelines for Oral Limited Appearance Statements

Any person not a party, or the representative of a party, to this proceeding will be permitted to make an oral statement setting forth his or her position on matters of concern relating to the proceeding. Although these statements do not constitute testimony or evidence, they nonetheless may help the Licensing Board and/or the parties in their consideration of the issues in this proceeding.

Oral limited appearance statements will be entertained during the hours specified in section C above, or such lesser time as may be necessary to accommodate the speakers who are present. In this regard, if all scheduled and unscheduled speakers present at a session have made a presentation, the Licensing Board reserves the right to terminate the session before the ending time listed in section C above. The Board also reserves the right to cancel the Sunday afternoon session scheduled above if there has not been a sufficient showing of public interest as reflected by the number of preregistered speakers.

Any member of the public who plans to attend the limited appearance session is strongly advised to arrive early to allow time to pass through any security measures that may be employed. Attendees are also requested not to bring any unnecessary hand-carried items, such as packages, briefcases, backpacks, or other items that might need to be examined individually. Items that could readily be used as weapons will not be permitted in the room where this session will be held. Also, during the oral limited appearance session, signs no larger than 18 inches by 18 inches will be permitted, but may not be attached to sticks, held over one's head, or moved about in the room.

The time allotted for each limited appearance statement normally will be no more than five minutes, but to ensure everyone will have an opportunity to speak, may be further limited depending on the number of written requests to make an oral statement that are submitted in accordance with section E below and/or the number of persons present at the designated times.

E. Submitting a Request To Make an Oral Limited Appearance Statement

A person wishing to make an oral statement who has submitted a timely written request to do so will be given priority over those who have not filed such a request. To be considered timely, a written request to make an oral statement must either be mailed, faxed, or sent by email so as to be received by 5:00 p.m. Eastern Time (ET) on Friday, September 5, 2014. Based on its review of the requests received by September 5, the Licensing Board may decide that the Sunday afternoon session will not be held due to a lack of adequate interest in that session.

Written requests to make an oral statement should be submitted to:

Mail: Administrative Judge G. Paul Bollwerk, III, Atomic Safety and Licensing Board Panel, Mail Stop T-3F23, U.S. Nuclear Regulatory Commission, Washington, DC 20555-0001.

Fax: (301) 415-5599 (verification (301) 415-6094).

Email: kathleen.schroeder@nrc.gov and paul.bollwerk@nrc.gov.

F. Submitting Written Limited Appearance Statements

As provided in 10 CFR 2.315(a), any person not a party, or the representative of a party, to the proceeding may submit a written statement setting forth his or her position on matters of concern relating to this proceeding. Although these statements do not constitute testimony or evidence, they nonetheless may help the Board or the parties in their consideration of the issues in this proceeding.

A written limited appearance statement may be submitted at any time and should be sent to the Office of the Secretary using one of the methods prescribed below:

Mail: Office of the Secretary, Rulemakings and Adjudications Staff, U.S. Nuclear Regulatory Commission, Washington, DC 20555-0001.

Fax: (301) 415-1101 (verification (301) 415-1966).

Email: hearingdocket@nrc.gov.

In addition, using the same method of service, a copy of the written limited appearance statement should be sent to the Chairman of this Licensing Board as follows:

Mail: Administrative Judge G. Paul Bollwerk, III, Atomic Safety and Licensing Board Panel, Mail Stop T-3F23, U.S. Nuclear Regulatory Commission, Washington, DC 20555-0001.

Fax: (301) 415-5599 (verification (301) 415-6094).

Email: paul.bollwerk@nrc.gov.

G. Availability of Documentary Information Regarding the Proceeding

The SEI license ⁶ and various staff documents relating to the application are available on the NRC Web site at http://www.nrc.gov/info-finder/materials/uranium/licensed-facilities/ross.html. These and other documents relating to this proceeding are available for public inspection at the Commission's Public Document Room (PDR), located at One White Flint North, 11555 Rockville Pike (first floor), Rockville, Maryland, or electronically from the publicly-available records component of NRC's document system (ADAMS). ADAMS is accessible from the NRC Web site at www.nrc.gov/reading-rm/adams.html (the Public Electronic Reading Room). Persons who do not have access to ADAMS or who encounter problems in accessing the documents located in ADAMS should contact the NRC PDR reference staff by telephone at (800) 397-4209 or (301) 415-4737 (available between 8:00 a.m. and 4:00 p.m., ET, Monday through Friday except federal holidays), or by email to pdr@nrc.gov.

⁶ On April 25, 2014, the staff notified the Board that, in accord with 10 CFR 2.1202(a), the SEI license had been issued, effective immediately. See Letter from Christopher C. Hair, NRC Staff Counsel, to Licensing Board (Apr. 25, 2014) at 1-2. Although section 2.1213(a) afforded Joint Intervenors the opportunity to seek a stay of this staff action, no such request was filed. Nonetheless, the SEI license is subject to any merits determination the Board might make relative to each of Joint Intervenors' pending contentions.

H. Information Updates to Schedule

Any updates or revisions to the evidentiary hearing schedule or the schedule for limited appearance sessions can be found on the NRC Web site at www.nrc.gov/public-involve/public-meetings/index.cfm, or by calling (800) 368-5642, extension 5036 (available between 7:00 a.m. and 9:00 p.m. ET, Monday through Friday, except federal holidays), or by calling (301) 415-5036 (available seven days a week, twenty-four hours a day).

It is so ordered.

For the Atomic Safety and Licensing Board.
Rockville, Maryland.
Dated: July 25, 2014.
G. Paul Bollwerk, III,
Chairman, Administrative Judge.

[FR Doc. 2014-18051 Filed 7-30-14; 8:45 am]

BILLING CODE 7590-01-P